DEPARTMENT OF TRANSPORTATION

Federal Transit Administration

Draft Environmental Impact Statement on the Proposed East-Southwest Corridor Study Project in Jacksonville, Duval County and Clay County, FL

AGENCY: Federal Transit Administration (FTA), U.S. Department of Transportation (DOT).

ACTION: Notice of intent to prepare an alternatives analysis and draft environmental impact statement (AA/DEIS).

SUMMARY: The Federal Transit Administration (FTA) as lead agency, the Florida Department of Transportation (FDOT) and the Jacksonville Transportation Authority (JTA) intend to conduct an Alternatives Analysis and prepare a Draft Environmental Impact Statement (AA/DEIS) on a proposal by the JTA to study the implementation of transportation improvements within a corridor known as the Jacksonville East/Southwest Corridor. The East/Southwest Corridor is an approximate 35-mile radial corridor connecting the Town of Orange Park in northern Clay County to the Jacksonville beach communities, through downtown Jacksonville. The analysis is necessary to identify mobility options that address the high level of travel demand and traffic congestion within the East/Southwest Corridor.

Scoping will be accomplished through correspondence with interested persons, organizations, and Federal, State and local agencies, and three public scoping meetings.

DATES: Comment Due Date: Written comments on the scope of the alternatives and impacts to be considered should be submitted by January 2, 2003 to Mr. Kevin Feldt, Senior Transportation Planner, Jacksonville Transportation Authority. Written and verbal comments may also be made at the public scoping meetings to be held on December 11 and December 12, 2002. See ADDRESSES below.

ADDRESSES: Written and verbal comments on the scope and related matters should be sent to Mr. Kevin Feldt, Senior Transportation Planner, Jacksonville Transportation Authority, Post Office Drawer O, Jacksonville, Florida, 32203. Telephone: (904) 398-2216.

Three public scoping meetings will be held at the following dates and locations:

Public Scoping Meeting No. 1

Date: Wednesday, December 11, 2002.

Time: 5 p.m. to 8 p.m.

Location: J.E.B. Stuart Middle School, 4815 Westconnett Boulevard, Jacksonville, Florida 32210.

Public Scoping Meeting No. 2

Date: Thursday, December 12, 2002.

Time: 12 p.m. to 3 p.m.

Location: Jacksonville Transportation Authority, 100 North Myrtle Avenue, Jacksonville, Florida 32203.

Public Scoping Meeting No. 3

Date: Thursday, December 12, 2002.

Time: 5 p.m. to 8 p.m.

Location: FCCJ South Campus—Wilson Arts Center, 11901 Beach Boulevard, Jacksonville, Florida 32246.

Persons with special needs should contact Ms. Winova Hart, Project Coordinator, Jacksonville Transportation Authority, Post Office Drawer O, Jacksonville, Florida, 32203. Telephone: (904) 398-3882.

FOR FURTHER INFORMATION CONTACT: Mr. Kevin Feldt, Senior Transportation Planner, Jacksonville Transportation Authority, Post Office Drawer O, Jacksonville, Florida, 32203. Telephone: (904) 398-2216. You may also contact Mr. Derek R. Scott, Community Planner, FTA, 61 Forsyth Street, SW., Suite 17T50, Atlanta, GA 30303. Telephone: (404) 562-3524.

SUPPLEMENTARY INFORMATION: FTA, FDOT and JTA invite interested individuals, organizations, and Federal, State and local agencies to participate in defining the transportation improvement alternatives to be evaluated in the East/Southwest Corridor AA/DEIS Study and identify any significant social, economic, or environmental issues related to the alternatives. The scoping process will also include early agency coordination in accordance with Section 106, 36 CFR 800, the identification and evaluation of the concept and scope of the alternatives, and selection of a preferred design concept and scope of an alternative(s). Subsequently, alternatives that are consistent with the purpose of and the need for the proposed project will be addressed in the DEIS.

I. Scoping

The transportation improvements are being defined in conjunction with preparation of an Alternatives Analysis/ Draft Environmental Impact Statement (AA/DEIS). The AA/DEIS will include a scoping process in accordance with the National Environmental Policy Act (NEPA) of 1969, as amended. An information packet describing the purpose of the AA/DEIS study, the corridor location, the proposed initial alternatives, and the impact areas to be evaluated, is being mailed to affected Federal, State, and local agencies. Others may request scoping materials by contacting Mr. Kevin Feldt, Senior Transportation Planner, Jacksonville Transportation Authority, Post Office Drawer O, Jacksonville, Florida, 32203. Telephone: (904) 398-2216.

The JTA will hold public scoping meetings as described above. FTA, FDOT and JTA invite interested individuals, organizations, and public agencies to attend the scoping meetings and participate in establishing the study's purpose, alternatives to be studied, time frame of the study, and the approach to the analysis. The public and agencies are invited to comment on the alternatives to be addressed, the modes and technologies to be evaluated, the alignments and termination points to be considered, the environmental, social, and economic impacts to be analyzed, and the evaluation approach to be used.

II. Description of the Study Area and Transportation Needs

The East/Southwest Corridor is an approximate 35-mile radial corridor connecting downtown Jacksonville with northern Clay County (Town of Orange Park), the Argyle/Naval Air Station (NAS), Ortega, Avondale, Riverside, Arlington, Mayport areas and the Jacksonville beach communities. The study area encompasses areas with the highest number of trips to downtown Jacksonville. The study area corridor will address 200 miles of congested roadways, representing approximately 40 percent of the urban area's congestion. It also connects the two large Naval installation employment centers to areas with the highest concentrations of minority and zero-auto households in the region by connecting to the North-Southeast Corridor. Through these connections, the proposed improvements have the potential to improve mobility and provide access to job opportunities for transportation disadvantaged populations.

In 1999, as a part of the federally required metropolitan transportation planning process, the JTA and the Florida Department of Transportation (FDOT), in cooperation with the First Coast Metropolitan Planning Organization (MPO), conducted a Transportation Alternatives Study (TAS) for the Jacksonville metropolitan area (Transportation Alternatives Study Corridors Evaluation Report, June 19, 2000). The TAS study area included all of Duval County and portions of northern Clay County and northern St. Johns County to the south.

The TAS evaluated regional travel corridors and recommended sequencing of corridors to be carried forward into more detailed study. A significant public involvement program was implemented during the preparation of the TAS, including numerous stakeholder interviews, public meetings and community workshops. The resulting recommended corridors and sequence for study included two radial corridors (the North/Southeast and the East/Southwest) and two crosstown corridors (Westside and Beaches). The two radial corridors focus on travel to and through downtown Jacksonville, which is the primary travel shed in the region today and is projected to remain so into the year 2025.

A public meeting was conducted on April 18, 2000 in Jacksonville to present the preliminary corridor recommendations and sequencing of future studies. Public comments on the recommendation were solicited from affected communities. In addition to the public hearing, the recommended corridors and sequencing were presented to the TAS Citizens Advisory Committee, the MPO Technical Coordinating Committee and Citizens Advisory Committee, the JTA Board of Directors, and the MPO Board of Directors.

The TAS findings resulted in the first sequenced corridor, the North/Southeast corridor, advancing into the AA/DEIS phase. During the course of the North-Southeast AA/DEIS, a more thorough identification of corridor facilities was performed and potential social, economic and environmental impacts have been evaluated. Additionally, corridor transportation needs will be further analyzed, alternative transportation solutions will be identified and evaluated, and decisions will be made on a proposed locally preferred alternative (LPA). The North-Southeast AA/DEIS will be completed with the LPA adopted in Spring, 2003.

It is expected that the ongoing scoping process, including the formal scoping meetings, stakeholder input, public meetings and workshops, along with written comments, will result in the final set of alternatives to be studied in the East/Southwest Corridor DEIS. Potential variations on the alternatives, including both transit and non-transit alternatives, will be considered.

III. Alternatives

A number of transportation alternatives will be evaluated and will include:

(1) No-Build Alternative consisting of existing and planned/programmed transportation improvements identified in the Jacksonville Urban Area Transportation Study (JUATS) 2025 Cost Feasible Long Range Transportation Plan (LRTP). This alternative provides the baseline for establishing the project's environmental impacts.

(2) Transportation System Management/Traffic Demand Management (TSM/TDM) alternative. This alternative will include enhanced bus service and facilities in addition to other TSM/TDM projects. The TSM/TDM alternative is defined as low cost, operational oriented improvements designed to address the identified transportation problems in the corridor. The TSM/TDM alternative provides the baseline criteria against which all of the “build” alternatives are evaluated.

(3) Busway/Bus Rapid Transit (BRT) alternative.

(4) Light Rail Transit (LRT) alternative.

(5) Commuter Rail alternative.

(6) Street and highway alternative.

(7) Combinations of the above modes with various alignment alternatives, using facilities that include but are not limited to Arlington Expressway/Atlantic Boulevard (SR 10), Hart Expressway (Alt US 1)/Beach Boulevard (US 90), and J. Turner Boulevard (SR 202) in the East district, and Roosevelt Boulevard (US 17)/CSX Railroad, Blanding Boulevard (SR 21) and Interstate 295 in the Southwest district.

(8) Other alternatives to be identified as a result of the scoping process.

As part of the alternative analysis, capital, operating and maintenance costs and other financial impacts will be evaluated. After identification and screening of a set of initial alternatives, promising conceptual alternatives will be identified and will undergo an evaluation process to reduce them to a set of refined alternatives. A more detailed analysis of refined alternatives will be undertaken during the preparation of the AA/DEIS. The AA/DEIS will be presented to the public and agencies at a public hearing followed by the JTA Board action to select a proposed LPA. If a Build alternative is selected, JTA will then request the First Coast MPO Board to review and approve the LPA selection. After approval, the proposed improvements within the LPA would be adopted within the cost feasible Jacksonville 2025 LRTP.

IV. Probable Effects

FTA, FDOT and JTA will evaluate, in the DEIS, all significant social, economic and environmental impacts of the refined alternatives. Issues and impacts to be considered during the study include potential changes to the physical environment (air quality, noise, vibration, water quality, aesthetics, ecological resources, navigable waterways, etc.); the social environment (land use, development, neighborhoods, etc.); parklands, cemeteries, and historic resources.

Among the primary transportation issues to be evaluated in the DEIS are the expected increases in transit ridership, the expected increase in mobility for the transportation disadvantaged population, impacts to environmental justice groups of concern, and the proposed project's support for the region's air quality goals. Evaluation criteria will include consideration of the local goals and objectives established for the study, measures of effectiveness identified during the ongoing scoping process, and criteria established by FTA.

V. FTA Procedures

In accordance with FTA policy, all Federal laws, regulations, and executive orders affecting project development, including but not limited to the regulations of the Council on Environmental Quality and FTA implementing NEPA (40 CFR parts 1500-1508, and 23 CFR part 771), the 1990 Clean Air Act Amendments, section 404 of the Clean Water Act, Executive Order 12898 regarding environmental justice, the National Historic Preservation Act, the Endangered Species Act, and section 4(f) of the DOT Act, will be addressed to the maximum extent practicable during the NEPA process. In addition, following selection and adoption of the LPA, JTA may seek FTA Section 5309 New Starts funding for the LPA or related projects that may terminate within the project area and will therefore be subject to the FTA New Starts regulations (49 CFR part 611). This New Starts regulation requires submission of information specified by FTA to support a JTA request to initiate preliminary engineering. The alternatives analysis and subsequent preliminary engineering activities are to be executed in conjunction with the NEPA process.

Issued on: November 26, 2002.
Jerry Franklin,
Regional Administrator, Federal Transit Administration, Atlanta, Georgia.

[FR Doc. 02-30524 Filed 12-2-02; 8:45 am]

BILLING CODE 4910-57-P